DEPARTMENT OF DEFENSE

Department of the Army

Availability for Non-Exclusive, Exclusive, or Partially Exclusive Licensing of Invention Described in U.S. Provisional Patent Application Concerning Identification of Staphylococcal Enterotoxin-B (SEB) Sequences Involved in Cell Proliferation and Cell Death

AGENCY: Department of the Army, DoD.

ACTION: Notice.

SUMMARY: In accordance with 37 CFR 404.4, 404.6 and 404.7, announcement is made of the availability for licensing of the invention described in U.S. Provisional Patent Application No. 60/853,906 entitled “Identification of Staphylococcal Enterotoxin-B (SEB) Sequences Involved in Cell Proliferation and Cell Death,” filed October 24, 2006. Foreign rights are also available (PCT/US2007/022473). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to bacterial peptides, specifically Staphylococcus Enterotoxin B (SEB) peptides that have therapeutic use. The invention further relates to the use of SEB peptides in the diagnosis and therapy of diseases associated with cell proliferation.

Brenda S. Bowen,
Army Federal Register Liaison Officer.

[FR Doc. E8-3916 Filed 2-28-08; 8:45 am]

BILLING CODE 3710-08-P